DEPARTMENT OF HEALTH AND HUMAN SERVICES

Centers for Disease Control and Prevention

[Funding Opportunity Number: CE05-024]

Community-Based Interventions for Alcohol-Impaired Driving; Notice of Availability of Funds-Amendment

A notice announcing the availability of fiscal year (FY) 2005 funds for a cooperative agreement that seeks to evaluate interventions to decrease alcohol-impaired driving in community settings and the resulting deaths and injuries was published in the Federal Register on November 19, 2004, Vol. 69, No. 223, pages 67738-67744.

The notice is amended as follows: On page 67740, Column 2, Section IV.1. Address to Request application Package, delete the first sentence and replace with “To apply for this funding opportunity, use application form PHS 398 (OMB number 0925-0001 rev.

9/2004).

Dated: January 28, 2005.
William P. Nichols,
Director, Procurement and Grants Office, Centers for Disease Control and Prevention.

[FR Doc. 05-2043 Filed 2-2-05; 8:45 am]

BILLING CODE 4163-18-P